DEPARTMENT OF AGRICULTURE

Submission for OMB Review; Comment Request

December 10, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by January 15, 2015 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Self Certification Medical Statement.

OMB Control Number: 0579-0196.

Summary of Collection: The United States Department of Agriculture is responsible for ensuring consumers that food and farm products are moved from producer to consumer in the most efficient, dependable, economical, and equitable system possible. 5 CFR part 339 authorizes an agency to obtain medical information about the applicant's health status to assist management in making employment decisions concerning positions that have specific medical standards or physical requirements in order to determine medical/physical fitness. The Marketing and Regulatory Programs (MRP) of the Animal Plant and Health Inspection Service (APHIS) of the U.S. Department of Agriculture hires individuals each year in commodity grading and inspection positions. These positions involve arduous duties and work under conditions, around moving machinery, slippery surfaces, and high noise level areas. APHIS will collect information using the MRP-5 form (Self-Certification Medical Statement).

Need and Use of the Information: The information collected from the prospective employees assists the MRP officials, administrative personnel, and servicing Human Resources Offices in determining an applicant's physical fitness and suitability for employment in positions with approved medical standards and physical requirements and direct contact with meat, dairy, fresh or processed fruits and vegetables, and poultry intended for human consumption and cotton and tobacco products intended for consumer use. If the information was not collected, APHIS would not be able to accurately determine the physical and/or mental fitness for the position which the applicant has applied and still meet the provisions of the Act.

Description of Respondents: Individuals or households.

Number of Respondents: 322.

Frequency of Responses: Reporting: On occasion.

Total Burden Hours: 54.

Animal and Plant Health Inspection Service

Title: Trichinae Certification Program.

OMB Control Number: 0579-0323.

Summary of Collection: The Animal Health Protection Act (AHPA) of 2002 is the primary Federal law governing the protection of animal health. The law gives the Secretary of Agriculture broad authority to detect, control and eradicate pests or diseases of livestock or poultry. The AHPA is contained in Title X, Subtitle E, Sections 10401-18 of Public Law 107-171, May 13, 2002, the Farm Security and Rural Investment Act of 2002. Trichinelia spiralis is a contagious nematode affecting animals and people. The disease, trichinellosis, is transmitted by consuming the meat of an infected animal. The Animal and Plant Health Inspection Service (APHIS) will collect information using a certificate site audit, program audit form, request for information during a spot audit, animal disposal plan and recordkeeping, animal movement record and recordkeeping, rodent control logbook and recordkeeping, trichinae herd certification feed mill quality assurance affidavit and recordkeeping, and records for slaughter testing and recordkeeping.

Need and Use of the Information: APHIS will collect information to certify swine are raised using practices that will reduce or eliminate T spiralis exposure. If this information is not collected, it will compromise APHIS' ability to determine the trichinae infection status of pork produced in the United States.

Description of Respondents: Business or other for-profit; State, Local or Tribal Government.

Number of Respondents: 260.

Frequency of Responses: Recordkeeping; Reporting: On occasion.

Total Burden Hours: 2,118.

Ruth Brown,
Departmental Information Collection Clearance Officer.

[FR Doc. 2014-29445 Filed 12-15-14; 8:45 am]

BILLING CODE 3410-34-P